DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Standards and Security (SSS).

Time and Date: 9 a.m. to 5 p.m., May 20, 2003. 9 a.m. to 5 p.m., May 21, 2003. 8:30 a.m. to 3 p.m., May 22, 2003.

Place: Crowne Plaza Hotel, 1489 Jefferson Davis Highway, Arlington, VA 22202, (703) 416-1600.

Status: Open.

Purpose: On May 20th the National Committee on Vital and Health Statistics (NCVHS) through the Subcommittee on Standards and Security (SSS) will address two topics. The first topic involves HIPAA contingency planning in which the subcommittee will hear testimony from the Workshop for Electronic Data Interchange (WEDI), healthcare payers, and healthcare providers. The second topic will be a roundtable discussion with members of the Consolidated Health Informatics (CHI) initiative, one of the 24 projects within the federal E-Government Strategy. The roundtable discussions will include the CHI healthcare industry outreach plan, the CHI target portfolio of clinical vocabulary domains, and the clinical messaging/vocabulary standards adopted and under consideration by CHI.

On May 21st-22nd NCVHS/SSS will address two issues. The first issue is the next phase of activities on Patient Medical Record Information (PMRI), which will recommend PMRI terminology standards to the Secretary of the Department of Health and Human Services. The first two steps of the process were to hear testimony from terminology experts for defining the scope and criteria when selecting standard PMRI terminologies and to obtain information from PMRI terminology developers. The third step, which is planned for this day-and-a-half portion of this meeting, is to hear the experiences of the users of these terminologies. For this step, the Subcommittee will hear testimony from software application vendors, terminology server vendors and healthcare end-users of the PMRI terminologies that were identified in the initial steps of the process. On the afternoon of May 22nd, NCVHS/SSS will address the final topic, which is an update about the ICD-10 cost/benefit analysis project being conducted by the Subcommittee.

Contact Person for More Information: Substantive program information as well as summaries of meetings and a roster of Committee members may be obtained from Karen Trudel, Senior Technical Advisor, Security and Standards Group, Centers for Medicare and Medicaid Services, MS: C5-24-04, 7500 Security Boulevard, Baltimore, MD 21244-1850, telephone: (410) 786-9937; or Marjorie S. Greenberg, Executive Secretary, NCVHS, National Center for Health Statistics, Centers for Disease Control and Prevention, Room 1100, Presidential Building, 6525 Belcrest Road, Hyattsville, Maryland 20782, telephone: (301) 458-4245. Information also is available on the NCVHS home page of the HHS Web site: http://www.ncvhs.hhs.gov/ where an agenda for the meeting will be posted when available.

Dated: April 29, 2003.
James Scanlon,
Acting Director, Office of Science and Data Policy, Office of the Assistant Secretary for Planning and Evaluation.

[FR Doc. 03-11224 Filed 5-6-03; 8:45 am]

BILLING CODE 4151-05-M